DEPARTMENT OF THE INTERIOR

Bureau of Land Management

[BLM_NM_FRN_MO4540000247]

Notice of Public Meeting Northern New Mexico Resource Advisory Council, New Mexico

AGENCY: Bureau of Land Management, Interior.

ACTION: Notice of public meetings.

SUMMARY: In accordance with the Federal Land Policy and Management Act of 1976, as amended, and the Federal Advisory Committee Act of 1972, the U.S. Department of the Interior, Bureau of Land Management's (BLM) Northern New Mexico Resource Advisory Council (RAC) will meet as indicated below.

DATES: The RAC is scheduled to participate in a field trip to Kasha-Katuwe Tent Rocks National Monument on Thursday, January 16, 2025, from 9 a.m. to 12 p.m. mountain time (MT). The RAC will reconvene for an in-person meeting on Friday, January 17, 2025, from 8 a.m. to 4 p.m. MT. The meeting and field tour are open to the public.

ADDRESSES: Participants for the January 16 field trip will meet at the Cochiti Visitor Center, 1101 State Road 22, Cochiti Pueblo, NM 87072 at 9 a.m. MT. The January 17, 2025, meeting will be held at the BLM Rio Puerco Field Office, 100 Sun Ave. NE, Suite 330, Albuquerque, NM 87109. A virtual participation option for the January 17, 2025, meeting is available on the Zoom Webinar platform. Registration for the January 17, 2025, meeting can be found at: https://blm.zoomgov.com/webinar/register/WN_L11-2VgAR-Sw2FH940LboA.

FOR FURTHER INFORMATION CONTACT: BLM Albuquerque District Public Affairs Specialist Jamie Garcia, 100 Sun Ave. NE, Suite 330, Albuquerque, New Mexico 87109; telephone: 505-761-8787; email: jagarcia@blm.gov. Individuals in the United States who are deaf, blind, hard of hearing, or have a speech disability may dial 711 (TTY, TDD, or TeleBraille) to access telecommunications relay services. Individuals outside the United States can use relay services offered within their respective country to make international calls to the accessibility point-of-contact in the United States.

SUPPLEMENTARY INFORMATION: The chartered 12-member Northern New Mexico RAC advises the Secretary of the Interior, through the BLM New Mexico State Director, about planning and management of public land resources located within the jurisdictional boundaries of the RAC.

Planned meeting agenda items include updates from the BLM Rio Puerco, Farmington, and Taos field offices, and other issues that may arise. There will also be a discussion and vote on a small, proposed fee increase for Kasha-Katuwe Tent Rocks National Monument that would cover the Recreation.gov processing fee. A final agenda will be posted two weeks in advance of the meeting on the RAC web page at www.blm.gov/get-involved/resource-advisory-council/near-you/new-mexico/northern-rac.

Public Comment Procedures: The BLM welcomes comments from all interested parties. There will be a half-hour public comment period during the January 17, 2025, meeting beginning at 2 p.m. MT for any interested members of the public who wish to address the RAC. Written comments pertaining to this meeting may be submitted in advance to the individual listed in the FOR FURTHER INFORMATION CONTACT section of this notice. Please include “RAC Comment” in your submission. Depending on the number of persons wishing to speak, the time for individual comments may be limited. Before including an address, phone number, email address, or other personal identifying information in any comment, please be aware that all comments—including personal identifying information—may be made publicly available at any time. While requests can be made to withhold personal identifying information from public review, BLM cannot guarantee it will be able to do so.

Meeting Accessibility/Special Accommodations: For sign language interpreter services, assistive listening devices, language translation services, or other reasonable accommodations, please contact Jamie Garcia at least 14 business days before the meeting to give the Department of the Interior sufficient time to process your request. All reasonable accommodation requests are managed on a case-by-case basis. Detailed meeting minutes for the Northern New Mexico RAC are maintained in the Albuquerque District Office, located at 100 Sun Ave. NE, Suite 330, Albuquerque, NM 87109. Meeting minutes will be available for public inspection and reproduction during regular business hours within 90 days following the meeting. Minutes will also be posted on the RAC web page at www.blm.gov/get-involved/resource-advisory-council/near-you/new-mexico/northern-rac.

(Authority: 43 CFR 1784.4-1)

Sabrina Flores,
BLM Albuquerque District Manager.

[FR Doc. 2024-29511 Filed 12-13-24; 8:45 am]

BILLING CODE 4331-23-P